ENVIRONMENTAL PROTECTION AGENCY

40 CFR Part 52

[EPA-R04-OAR-2009-0751-200920; FRL-8965-9]

Approval and Promulgation of Implementation Plans and Designations of Areas for Air Quality Planning Purposes; North Carolina: Hickory-Morganton-Lenoir; Determination of Attaining Data for the 1997 Fine Particulate Matter Standard

AGENCY: Environmental Protection Agency (EPA).

ACTION: Proposed rule.

SUMMARY: EPA is proposing to determine that the Hickory-Morganton-Lenoir, North Carolina, (hereafter referred to as “Hickory, North Carolina”) nonattainment area for the 1997 fine particulate matter (PM2.5) National Ambient Air Quality Standard (NAAQS) has attained the 1997 PM2.5 NAAQS. This proposed determination is based upon three years of complete quality assured, quality controlled, and certified ambient air monitoring data showing that this area has monitored attainment of the 1997 PM2.5 NAAQS for the years of 2006-2008. In addition, monitoring data thus far available, but not yet certified, in the EPA Air Quality System (AQS) database for 2009 show that this area continues to meet the 1997 PM2.5 NAAQS. If this proposed determination is made final, the requirement for the State of North Carolina to submit an attainment demonstration and associated reasonably available control measures (RACM), a reasonable further progress (RFP) plan, contingency measures, and other planning State Implementation Plans (SIPs) related to attainment of the standard for the Hickory, North Carolina, PM2.5 nonattainment area, shall be suspended. This requirement would remain suspended as long as this area continues to meet the 1997 PM2.5 NAAQS.

DATES: Written comments must be received on or before November 5, 2009.

ADDRESSES: Submit your comments, identified by Docket ID No. EPA-R04-OAR-2009-0751 by one of the following methods:

1. http://www.regulations.gov: Follow the on-line instructions for submitting comments.

2. E-mail: benjamin.lynorae@epa.gov.

3. Fax: (404) 562-9019.

4. Mail: “EPA-R04-OAR-2009-0751,” Regulatory Development Section, Air Planning Branch, Air, Pesticides and Toxics Management Division, U.S. Environmental Protection Agency, Region 4, 61 Forsyth Street, SW., Atlanta, Georgia 30303-8960.

5. Hand Delivery or Courier: Lynorae Benjamin, Chief, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to Docket ID No. EPA-R04-OAR-2009-0751. EPA's policy is that all comments received will be included in the public docket without change and may be made available online at www.regulations.gov, including any personal information provided, unless the comment includes information claimed to be Confidential Business Information (CBI) or other information whose disclosure is restricted by statute. Do not submit through http://www.regulations.gov or by e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: Joel Huey, Regulatory Development Section, Air Planning Branch, Air, Pesticides and Toxics Management Division, U.S. Environmental Protection Agency, Region 4, 61 Forsyth Street, SW., Atlanta, Georgia 30303-8960. Mr. Huey may be reached by phone at (404) 562-9104 or via electronic mail at huey.joel@epa.gov.

SUPPLEMENTARY INFORMATION:

I. What Action Is EPA Taking?

II. What Is the Effect of This Action?

III. What Is the Background for This Action?

IV. What Is EPA's Analysis of the Relevant Air Quality Data?

V. Proposed Action

VI. Statutory and Executive Order Reviews

I. What Action Is EPA Taking?

EPA is proposing to determine that the Hickory, North Carolina, PM2.5 nonattainment area has attained the 1997 PM2.5 NAAQS. This determination is based upon complete quality assured, quality controlled, and certified ambient air monitoring data for the years 2006-2008 showing that the area has monitored attainment of the 1997 PM2.5 NAAQS. In addition, quality controlled and quality assured monitoring data thus far available, but not yet certified, in the EPA AQS database for 2009, show that this area continues to meet the 1997 PM2.5 NAAQS.

II. What Is the Effect of This Action?

If this determination is made final, under the provisions of EPA's PM2.5 implementation rule (see 40 CFR 51.1004(c)), the requirement for the State of North Carolina to submit an attainment demonstration and associated RACM, RFP plan, contingency measures, and any other planning SIPs related to attainment of the 1997 PM2.5 NAAQS for the Hickory, North Carolina, PM2.5 nonattainment area, shall be suspended. This requirement would remain suspended as long as this area continues to meet the 1997 PM2.5 NAAQS.

As further discussed below, the proposed determination for the Hickory, North Carolina, PM2.5nonattainment area would: (1) Suspend the requirement to submit an attainment demonstration and associated RACM (including reasonably available control technologies), RFP plan, contingency measures, and any other planning SIPs related to attainment of the 1997 PM2.5 NAAQS; (2) continue until such time, if any, that EPA subsequently determines that the area has violated the 1997 PM2.5 NAAQS; (3) be separate from, and not influence or otherwise affect, any future designation determination or requirements for the Hickory, North Carolina, area based on the 2006 PM2.5 NAAQS; and (4) remain in effect regardless of whether EPA designates this area as a nonattainment area for purposes of the 2006 PM2.5 NAAQS. Furthermore, as described below, any such final determination would not be equivalent to the redesignation of the area to attainment based on the 1997 PM2.5 NAAQS.

If this rulemaking is finalized and EPA subsequently determines, after notice-and-comment rulemaking in the Federal Register, that the area has violated the 1997 PM2.5 NAAQS, the basis for the suspension of the specific requirements, set forth at 40 CFR 51.1004(c), would no longer exist, and the area would thereafter have to address pertinent requirements.

The determination that EPA proposes with this Federal Register notice is not equivalent to a redesignation of the area to attainment. This proposed action, if finalized, would not constitute a redesignation to attainment under section 107(d)(3) of the Clean Air Act (CAA) because we would not yet have an approved maintenance plan for the area as required under section 175A of the CAA nor a determination that the area has met the other requirements for redesignation. The designation status of the area would remain nonattainment for the 1997 PM2.5 NAAQS until such time as EPA determines that it meets the CAA requirements for redesignation to attainment.

This proposed action, if finalized, is limited to a determination that the Hickory, North Carolina, PM2.5 nonattainment area has attained the 1997 PM2.5 NAAQS. The 1997 PM2.5 NAAQS became effective on July 18, 1997 (62 FR 36852), and are set forth at 40 CFR 50.7. The 2006 PM2.5 NAAQS, which became effective on December 18, 2006 (71 FR 61144), are set forth at 40 CFR 50.13. EPA is currently in the process of making designation determinations, as required by CAA section 107(d)(1), for the 2006 PM2.5 NAAQS. EPA has not made any designation determination for the Hickory, North Carolina, area based on the 2006 PM2.5 NAAQS. This proposed determination, and any final determination, will have no effect on, and is not related to, any future designation determination that EPA may make based on the 2006 PM2.5 NAAQS for the Hickory, North Carolina, area. Conversely, any future designation determination of the Hickory, North Carolina, area, based on the 2006 PM2.5 NAAQS, will not have any effect on the determination proposed by this notice.

If this proposed determination is made final and the Hickory, North Carolina, area continues to demonstrate attainment with the 1997 PM2.5 NAAQS, the requirement for the State of North Carolina to submit for the Hickory, North Carolina, PM2.5 nonattainment area an attainment demonstration and associated RACM, RFP plan, contingency measures, and any other planning SIPs related to attainment of the 1997 PM2.5 NAAQS will remain suspended regardless of whether EPA designates this area as a nonattainment area for purposes of the 2006 PM2.5 NAAQS. Once the area is designated for the 2006 NAAQS, it will have to meet all applicable requirements for that designation.

III. What Is the Background for This Action?

On July 18, 1997 (62 FR 36852), EPA established a health-based PM2.5 NAAQS at 15.0 micrograms per cubic meter (µg/m³) based on a 3-year average of annual mean PM2.5 concentrations, and a twenty-four hour standard of 65 µg/m³ based on a 3-year average of the 98th percentile of 24-hour concentrations. EPA established the standards based on significant evidence and numerous health studies demonstrating that serious health effects are associated with exposure to particulate matter. The process for designating areas following promulgation of a new or revised NAAQS is contained in section 107(d)(1) of the CAA. EPA and State air quality agencies initiated the monitoring process for the 1997 PM2.5 NAAQS in 1999 and began operating all air quality monitors by January 2001. On January 5, 2005, EPA published its air quality designations and classifications for the 1997 PM2.5 NAAQS based upon air quality monitoring data from those monitors for calendar years 2001-2003 (70 FR 944). These designations became effective on April 5, 2005. The Hickory, North Carolina, area is composed of Catawba County, North Carolina, and was designated nonattainment for the 1997 PM2.5 NAAQS (see 40 CFR part 81).

IV. What Is EPA's Analysis of the Relevant Air Quality Data?

EPA has reviewed the ambient air monitoring data for PM2.5, consistent with the requirements contained in 40 CFR part 50, as recorded in the EPA AQS database for the Hickory, North Carolina, PM2.5 nonattainment area. On the basis of that review, EPA has concluded that this area attained the 1997 PM2.5 NAAQS during the 2006-2008 monitoring period. Under EPA regulations at 40 CFR 50.7:

(1) The annual primary and secondary PM2.5 standards are met when the annual arithmetic mean concentration, as determined in accordance with 40 CFR Part 50, Appendix N, is less than or equal to 15.0 µg/m³.

(2) The 24-hour primary and secondary PM2.5 standards are met when the 98th percentile 24-hour concentration, as determined in accordance with 40 CFR Part 50, Appendix N, is less than or equal to 65 µg/m³.

Table 1 shows the design values (the metrics calculated in accordance with 40 CFR part 50, appendix N, for determining compliance with the NAAQS) for the 1997 Annual PM2.5 NAAQS for the Hickory, North Carolina, nonattainment area monitors for the years 2006-2008. Table 2 shows the design values for the 1997 24-hour PM2.5 NAAQS for these same monitors and for the same 3-year period.

Table 1—Design Value for Counties in the Hickory, North Carolina Nonattainment Area for 1997 PM2.5 NAAQS—Annual Standard
Location | AQS site ID | 2006 average | 2007 average | 2008 average | 2006-2008 design value
Catawba County | 37-035-0004 | 15.163 | 14.592 | 12.806 | 14.2

Table 2—Design Value for Counties in the Hickory, North Carolina Nonattainment Area for 1997 PM2.5 NAAQS—24-Hour Standard
Location | AQS site ID | 2006 98th percentile | 2007 98th percentile | 2008 98th percentile | 2006-2008 design value
Catawba County | 37-035-0004 | 32.9 | 30.7 | 25.2 | 30

EPA's review of these data indicates that the Hickory, North Carolina, nonattainment area has met and continues to meet the 1997 PM2.5 NAAQS. EPA is soliciting public comments on the issues discussed in this document. These comments will be considered before taking final action.

V. Proposed Action

EPA is proposing to determine that the Hickory, North Carolina, nonattainment area for the 1997 PM2.5 NAAQS has attained the 1997 PM2.5 NAAQS based on 2006-2008 monitoring data. As provided in 40 CFR 51.1004(c), if EPA finalizes this determination, it will suspend the requirement for the State of North Carolina to submit for this area an attainment demonstration and associated RACM, RFP plan, contingency measures, and any other planning SIPs related to attainment of the 1997 PM2.5 NAAQS as long as the area continues to attain the 1997 PM2.5 NAAQS.

VI. Statutory and Executive Order Reviews

This action proposes to make a determination based on air quality data, and would, if finalized, result in the suspension of certain Federal requirements. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications, as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Particulate matter.

A. Stanley Meiburg,
Acting Regional Administrator, Region 4.

[FR Doc. E9-24059 Filed 10-5-09; 8:45 am]

BILLING CODE 6560-50-P